DEPARTMENT OF DEFENSE

Department of the Air Force

Notice of Intent To Prepare an Environmental Impact Statement for Beddown of Training F-35A Aircraft

AGENCY: Air Education and Training Command and Air National Guard, United States Air Force.

ACTION: Revised Notice of Intent.

SUMMARY: The United States Air Force published a Notice of Intent to prepare an EIS in the Federal Register (Vol. 74, No. 247, page 68597) on Dec 28, 2009. Due to severe weather in New Mexico, some of the scoping meetings were cancelled. In the Air Force's effort to make every attempt to allow the public an opportunity for providing their input, we have re-scheduled the scoping meetings to be held in Ruidoso and Ft. Sumner, NM. Furthermore, due to public interest and comments, The Air Force has decided to add three additional scoping meetings in New Mexico and Arizona for the Holloman AFB and Tucson International Airport Air Guard Station alternatives. This revised Notice of Intent is prepared to notify the public of the rescheduling and additional scoping meetings to be held in New Mexico and Arizona. Also, due to these additional scoping meetings the public comment period is extended to May 17, 2010.

DATES: The Air Force intends to hold scoping meetings in the following communities:

Tucson International Airport Air Guard Station: Tuesday, March 30, 2010, at Buena High School Cafeteria, 5225 Buena School Road, Sierra Vista, Arizona; Holloman Air Force Base: Tuesday, April 13, 2010, at Best Western Stevens Inn, 1829 South Canal Street, Carlsbad, New Mexico; Wednesday, April 14, 2010 at La Quinta Inn and Suites, 200 E 19th Street, Roswell, New Mexico; Thursday, April 15, 2010 at De Baca County Courthouse Annex, 248 East Avenue C, Fort Sumner, New Mexico; Friday, April 16, 2010 at Best Western Pine Springs Inn, 1420 E Highway 70, Ruidoso, New Mexico.

The scheduled dates, times, locations and addresses for the meetings will be published in local media a minimum of 15 days prior to the scoping meetings. All meetings will be held from 5:30 p.m. to 7:30 p.m. Comments will be accepted at any time during the environmental impact analysis process. However, to ensure the Air Force has sufficient time to consider public input in the preparation of the Draft EIS, comments should be submitted to the address below by May 17, 2010.

FOR FURTHER INFORMATION CONTACT: Mr. David Martin, HQ AETC/A7CPP, 266 F Street West, Randolph AFB, TX 78150-4319, telephone 210/652-1961.

Bao-Anh Trinh,
Air Force Federal Register Liaison Officer.

[FR Doc. 2010-5666 Filed 3-15-10; 8:45 am]

BILLING CODE 5001-05-P